DEPARTMENT OF COMMERCE

Bureau of Export Administration

15 CFR Part 774

[Docket No. 020308050-2050-01]

RIN 0694-AC59

License Exception CIV Eligibility for Certain “Microprocessors” Controlled by ECCN 3A001

AGENCY: Bureau of Export Administration, Commerce.

ACTION: Final rule.

SUMMARY: The Bureau of Export Administration (BXA) maintains the Commerce Control List (CCL), which identifies those items subject to Department of Commerce export licensing requirements based on their characteristics. Consistent with technological changes, this final rule makes License Exception CIV available for certain microprocessors controlled by Export Control Classification Number (ECCN) 3A001 when they have a composite theoretical performance (CTP) of equal to or greater than 6,500 million theoretical operations per second (MTOPS), but less than or equal to 12,000 MTOPS. License Exception CIV authorizes exports and reexports to civil end-users for civil end-uses in Country Group D:1, except North Korea. CIV may not be used for exports or reexports to military end-users or end-uses.

This revision will decrease the number of license applications submitted to the Department of Commerce, which will decrease the burden to both the exporting community and the Department of Commerce.

DATES: This rule is effective March 21, 2002.

FOR FURTHER INFORMATION CONTACT: Bernie Kritzer, Acting Director, Office of Strategic Trade and Foreign Policy Controls, Bureau of Export Administration, Telephone: (202) 482-5953.

SUPPLEMENTARY INFORMATION: Background: This rule implements the announcement made by President Bush on January 2, 2002 that the license exception level for exports of general purpose microprocessors would be raised from 6,500 MTOPS to 12,000 MTOPS. Such microprocessors are controlled in subsection a.3.a. of Export Control Classification Number (ECCN) 3A001 on the Commerce Control List, Supplement No. 1 to part 774 of the Export Administration Regulations (EAR). This rule amends ECCN 3A001 to provide that microprocessors in subsection a.3.a. with a composite theoretical performance up to 12,000 MTOPS are eligible for License Exception CIV (section 740.5 of the EAR). License Exception CIV authorizes exports and reexports to civil end-users for civil end-uses in Country Group D:1 (see Supplement No. 1 to part 740), except North Korea.

Although the Export Administration Act expired on August 20, 2001, the President, through Executive Order 13222 of August 17, 2001 (66 FR 44025 (August 22, 2001)), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act (PRA), unless that collection of information displays a currently valid OMB Control Number. This rule involves collections of information subject to the Paperwork Reduction Act of 1995 (44 U.S.C. 3501 et seq.) These collections have been approved by the Office of Management and Budget under control numbers 0694-0106, “Reporting and Recordkeeping Requirements under the Wassenaar Arrangement,” which carries a burden hour estimate of 5 minutes to record the information for each export and 1 minute to submit the report twice a year to BXA; and 0694-0088, “Multi-Purpose Application,” which carries a burden hour estimate of 40 minutes to prepare and submit electronically and 45 minutes to submit manually on form BXA-748P. Send comments regarding these burden estimates or any other aspect of these collections of information, including suggestions for reducing the burden, to OMB Desk Officer, New Executive Office Building, Washington, DC 20503; and to the Regulatory Policy Division, Bureau of Export Administration, Department of Commerce, P.O. Box 273, Washington, DC 20044.

3. This rule does not contain policies with Federalism implications as this term is defined in Executive Order 13132.

4. The provisions of the Administrative Procedure Act (5 U.S.C. 553) requiring notice of proposed rulemaking, the opportunity for public participation, and a delay in effective date, are inapplicable because this regulation involves a military and foreign affairs function of the United States (Sec. 5 U.S.C. 553(a)(1)). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601 et seq. ) are not applicable.

List of Subjects in 15 CFR part 774

Exports, Foreign trade.

Accordingly, part 774 of the Export Administration Regulations (15 CFR parts 730 through 799) is amended as follows:

1. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; E.O. 13026, 61 FR 58767, 3 CFR, 1996 Comp., p. 228; E.O. 13222, 66 FR 44025, August 22, 2001.

PART 774—AMENDED

Supplement No. 1 to Part 774—Amended

2. In Supplement No. 1 to part 774 (the Commerce Control List), Category 3—Electronics, Export Control Classification Number (ECCN) 3A001 is amended by revising the License Exceptions section to read as follows:

3A001 Electronic Components, as Follows (see List of Items Controlled)

* * * * *

License Exceptions

LVS: N/A for MT

Yes for:

$1500: 3A001.c

$3000: 3A001.b.1, b.2, b.3, .d, .e and .f

$5000: 3A001.a, and .b.4 to b.7

GBS: Yes for 3A001.a.1.b, a.2 to a.12, b.2, and b.8.

CIV: Yes for 3A001.a.3.a (for processors with a CTP less than or equal to 12,000 MTOPS), a.3.b, a.3.c, a.4, a.7, and a.11.

* * * * *

Dated: March 15, 2002.
James J. Jochum,
Assistant Secretary for Export Administration.

[FR Doc. 02-6875 Filed 3-20-02; 8:45 am]

BILLING CODE 3510-33-P